FEDERAL TRADE COMMISSION

16 CFR Chapter I

Notice of Intent To Request Public Comments

AGENCY: Federal Trade Commission.

ACTION: Notice of intent to request public comments.

SUMMARY: As part of its ongoing, systematic review of all Federal Trade Commission rules and guides, the Commission announces a modified ten-year regulatory review schedule. No Commission determination on the need for, or the substance of, the rules and guides listed below should be inferred from the notice of intent to publish requests for comments.

DATES: Effective May 23, 2013.

FOR FURTHER INFORMATION CONTACT: Further details about particular rules or guides may be obtained from the contact person listed below for the rule or guide.

SUPPLEMENTARY INFORMATION: To ensure that its rules and industry guides remain relevant and are not unduly burdensome, the Commission reviews them on a ten-year schedule. Each year the Commission publishes its review schedule, with adjustments made in response to public input, changes in the marketplace, and resource demands.

When the Commission reviews a rule or guide, it publishes a notice in the Federal Register seeking public comment on the continuing need for the rule or guide as well as the rule's or guide's costs and benefits to consumers and businesses. Based on this feedback, the Commission may modify or repeal the rule or guide to address public concerns or changed conditions, or to reduce undue regulatory burden.

The Commission posts information about its review schedule on its Web site ¹ to facilitate comment about rules and guides. This Web site provides links in one location to Federal Register notices requesting comments, comment forms, and comments for rules and guides that are currently under review. The Web site also contains a continuously updated review schedule, a list of rules and guides previously eliminated in the regulatory review process, and the Commission's regulatory review plan.

¹ http://www.ftc.gov/ftc/regreview/index.shtml.

Modified Ten-Year Schedule for Review of FTC Rules and Guides

For 2013, the Commission intends to initiate reviews of, and solicit public comments on, the following rules:

(1) Telemarketing Sales Rule, 16 CFR Part 310. Agency Contact: Karen S. Hobbs, (202) 326-3587, Federal Trade Commission, Bureau of Consumer Protection, Division of Marketing Practices, 600 Pennsylvania Ave. NW., Washington, DC 20580.

(2) Regulations under Section 4 of the Fair Packaging and Labeling Act, 16 CFR Part 500. Agency Contact: Stephen C. Ecklund, (202) 326-2841, Federal Trade Commission, Bureau of Consumer Protection, Division of Enforcement, 600 Pennsylvania Ave. NW., Washington, DC 20580.

(3) Exemptions from Requirements and Prohibitions under Part 500, 16 CFR Part 501. Agency Contact: Stephen C. Ecklund.

(4) Regulations under Section 5(c) of the Fair Packaging and Labeling Act, 16 CFR Part 502. Agency Contact: Stephen C. Ecklund.

(5) Statements of General Policy or Interpretation [under the Fair Packaging and Labeling Act], 16 CFR Part 503. Agency Contact: Stephen C. Ecklund.

The Commission is currently reviewing 22 of the 65 rules and guides within its jurisdiction. Due to the large number of rules and guides under review, the Commission is postponing review of the Preservation of Consumers' Claims and Defenses [Holder in Due Course Rule], 16 CFR Part 433, from 2013 as previously scheduled until 2014.

A copy of the Commission's modified regulatory review schedule for 2013 through 2023 is appended. The Commission, in its discretion, may modify or reorder the schedule in the future to incorporate new rules, or to respond to external factors (such as changes in the law) or other considerations.

Authority: 15 U.S.C. 41-58.

By direction of the Commission.
Donald S. Clark,
Secretary.

Appendix

Regulatory Review Modified Ten-Year Schedule
16 CFR Part | Topic | Year to review
20 | Guides for the Rebuilt, Reconditioned and Other Used Automobile Parts Industry | Currently Under Review.
23 | Guides for the Jewelry, Precious Metals, and Pewter Industries | Currently Under Review.
239 | Guides for the Advertising of Warranties and Guarantees | Currently Under Review.
240 | Guides for Advertising Allowances and Other Merchandising Payments and Services [Fred Meyer Guides] | Currently Under Review.
254 | Guides for Private Vocational and Distance Education Schools | Currently Under Review.
259 | Guide Concerning Fuel Economy Advertising for New Automobiles | Currently Under Review.
300 | Rules and Regulations under the Wool Products Labeling Act of 1939 | Currently Under Review.
301 | Rules and Regulations under Fur Products Labeling Act | Currently Under Review.
303 | Rules and Regulations under the Textile Fiber Products Identification Act | Currently Under Review.
305 | Appliance Labeling Rule | Currently Under Review.
306 | Automotive Fuel Ratings, Certification and Posting | Currently Under Review.
308 | Trade Regulation Rule Pursuant to the Telephone Disclosure and Dispute Resolution Act of 1992 [Pay Per Call Rule] | Currently Under Review.
423 | Care Labeling of Textile Wearing Apparel and Certain Piece Goods | Currently Under Review.
424 | Retail Food Store Advertising and Marketing Practices [Unavailability Rule] | Currently Under Review.
425 | Use of Prenotification Negative Option Plans | Currently Under Review.
429 | Rule Concerning the Cooling-Off Period for Sales Made at Homes or at Certain Other Locations | Currently Under Review.
435 | Mail or Telephone Order Merchandise | Currently Under Review.
455 | Used Motor Vehicle Trade Regulation Rule | Currently Under Review.
700 | Interpretations of Magnuson-Moss Warranty Act | Currently Under Review.
701 | Disclosure of Written Consumer Product Warranty Terms and Conditions | Currently Under Review.
702 | Pre-Sale Availability of Written Warranty Terms | Currently Under Review.
703 | Informal Dispute Settlement Procedures | Currently Under Review.
310 | Telemarketing Sales Rule | 2013.
500 | Regulations under Section 4 of the Fair Packaging and Labeling Act | 2013.
501 | Exemptions from Requirements and Prohibitions under Part 500 | 2013.
502 | Regulations under Section 5(c) of the Fair Packaging and Labeling Act | 2013.
503 | Statements of General Policy or Interpretation [under the Fair Packaging and Labeling Act] | 2013.
304 | Rules and Regulations under the Hobby Protection Act | 2014.
314 | Standards for Safeguarding Customer Information | 2014.
433 | Preservation of Consumers' Claims and Defenses [Holder in Due Course Rule] | 2014.
315 | Contact Lens Rule | 2015.
316 | CAN-SPAM Rule | 2015.
456 | Ophthalmic Practice Rules (Eyeglass Rule) | 2015.
460 | Labeling and Advertising of Home Insulation | 2016.
682 | Disposal of Consumer Report Information and Records | 2016.
233 | Guides Against Deceptive Pricing | 2017.
238 | Guides Against Bait Advertising | 2017.
251 | Guide Concerning Use of the Word “Free” and Similar Representations | 2017.
410 | Deceptive Advertising as to Sizes of Viewable Pictures Shown by Television Receiving Sets | 2017.
18 | Guides for the Nursery Industry | 2018.
311 | Test Procedures and Labeling Standards for Recycled Oil | 2018.
436 | Disclosure Requirements and Prohibitions Concerning Franchising | 2018.
681 | Identity Theft [Red Flag] Rules | 2018.
24 | Guides for Select Leather and Imitation Leather Products | 2019.
453 | Funeral Industry Practices | 2019.
14 | Administrative Interpretations, General Policy Statements, and Enforcement Policy Statements | 2020.
255 | Guides Concerning Use of Endorsements and Testimonials in Advertising | 2020.
313 | Privacy of Consumer Financial Information | 2020.
317 | Prohibition of Energy Market Manipulation Rule | 2020.
318 | Health Breach Notification Rule | 2020.
432 | Power Output Claims for Amplifiers Utilized in Home Entertainment Products | 2020.
444 | Credit Practices | 2020.
640 | Duties of Creditors Regarding Risk-Based Pricing | 2020.
641 | Duties of Users of Consumer Reports Regarding Address Discrepancies | 2020.
642 | Prescreen Opt-Out Notice | 2020.
660 | Duties of Furnishers of Information to Consumer Reporting Agencies | 2020.
680 | Affiliate Marketing | 2020.
698 | Model Forms and Disclosures | 2020.
801 | [Hart-Scott-Rodino Antitrust Improvements Act] Coverage Rules | 2020.
802 | [Hart-Scott-Rodino Antitrust Improvements Act] Exemption Rules | 2020.
803 | [Hart-Scott-Rodino Antitrust Improvements Act] Transmittal Rules | 2020.
437 | Disclosure Requirements and Prohibitions Concerning Business Opportunities | 2021.
260 | Guides for the Use of Environmental Marketing Claims | 2022.
312 | Childrens' Online Privacy Protection Rule | 2022.
309 | Labeling Requirements for Alternative Fuels and Alternative Fueled Vehicles | 2023.

[FR Doc. 2013-12231 Filed 5-22-13; 8:45 am]

BILLING CODE 6750-01-P